DEPARTMENT OF HEALTH AND HUMAN SERVICES

Centers for Disease Control and Prevention

[60 Day-03-29]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Application for Training (OMB No. 0920-0017)—Revision—The Public Health Practice Program Office (PHPPO), in conjunction with the Public Health Training, offers self-study, computer-based training, satellite broadcasts, video courses, web-casts, instructor-led field courses, and lab courses related to public health professionals worldwide. Employees of hospitals, universities, medical centers, laboratories, state and federal agencies, and state and local health departments apply for training in an effort to learn up-to-date public health procedures. The “Application for Training” forms are the official applications used for all training activities conducted by the CDC. The Continuing Education (CE) Program includes CDC's accreditation to provide Continuing Medical Education (CME), Continuing Nurse Education (CNE), Certified Health Education Specialist (CHES), and Continuing Education Unit (CEU) for almost all training activities. The only cost to the respondent is the time involved to complete the application.

Respondents | No. of respondents | Number of responses/ respondent | Average burden/ response (in hours) | Total burden (in hours)
(Form 32.1) | 8,500 | 1 | 5/60 | 708
PHTN (Form 36.5) | 45,000 | 1 | 5/60 | 3,750
SMDP (no form no.) | 25 | 1 | 15/60 | 6
Total | 53,525 |  |  | 4,464

Dated: December 20, 2002.
Nancy E. Cheal,
Acting Associate Director for Policy, Planning and Evaluation, Centers for Disease Control and Prevention.

[FR Doc. 02-32673 Filed 12-26-02; 8:45 am]

BILLING CODE 4163-18-P